DEPARTMENT OF TRANSPORTATION

Federal Aviation Administration

Approval of Noise Compatibility Program Update, Key West International Airport, Key West, Florida

AGENCY: Federal Aviation Administration, DOT.

ACTION: Notice.

SUMMARY: The Federal Aviation Administration (FAA) announces its findings on the Noise Compatibility Program Update submitted by the Monroe County Board of County Commissioners under the provisions of 49 U.S.C. 47501 et seq. (the Aviation Safety and Noise Abatement Act, hereinafter referred to as “the Act”) and 14 CFR part 150. These findings are made in recognition of the description of Federal and nonfederal responsibilities in Senate Report No. 96-52 (1980). On December 19, 2013, the FAA determined that the Noise Exposure Maps submitted by the Monroe County Board of County Commissioners under Part 150 were in compliance with applicable requirements. On March 11, 2015, the FAA approved the Key West International Airport Noise Compatibility Program Update. All of the recommendations of the program that requested FAA approval were approved. No program elements relating to new or revised flight procedures for noise abatement were proposed by the airport operator.

DATES: The effective date of the FAA's approval of the Key West International Airport Noise Compatibility Program Update is March 11, 2015.

FOR FURTHER INFORMATION CONTACT: Allan Nagy, Environmental Program Specialist, Federal Aviation Administration, Orlando Airports District Office, 5950 Hazeltine National Drive, Orlando, Florida 32822, phone number: (407) 812-6331. Documents reflecting this FAA action may be reviewed at this same location by appointment with the above contact.

SUPPLEMENTARY INFORMATION: This notice announces that the FAA has given its overall approval to the Noise Compatibility Program Update for Key West International Airport, effective March 11, 2015.

Under Section 47504 of the Act, an airport operator who has previously submitted a Noise Exposure Map may submit to the FAA a Noise Compatibility Program which sets forth the measures taken or proposed by the airport Sponsor for the reduction of existing non-compatible land uses and prevention of additional non-compatible land uses within the area covered by the Noise Exposure Maps. The Act requires such programs to be developed in consultation with interested and affected parties including local communities, government agencies, airport users, and FAA personnel.

Each airport Noise Compatibility Program developed in accordance with Title 14 Code of Federal Regulations (CFR) Part 150 is a local program, not a Federal program. The FAA does not substitute its judgment for that of the airport Sponsor with respect to which measures should be recommended for action. The FAA's approval or disapproval of each specific measure proposed by an airport Sponsor in a Record of Approval (ROA) is determined by applying approval criteria prescribed in 14 CFR 150.35(b).

The Administrator approves programs under this part, if:

(1) It is found that the program measures to be implemented would not create an undue burden on interstate or foreign commerce (including any unjust discrimination) and are reasonably consistent with achieving the goals of reducing existing noncompatible land uses around the airport and of preventing the introduction of additional noncompatible land uses;

(2) The program provides for revision if made necessary by the revision of the Noise Exposure Map (NEM); and

(3) Those aspects of programs relating to the use of flight procedures for noise control can be implemented within the period covered by the program and without:

(i) Reducing the level of aviation safety provided;

(ii) Derogating the requisite level of protection for aircraft, their occupants and persons and property on the ground;

(iii) Adversely affecting the efficient use and management of the Navigable Airspace and Air Traffic Control Systems; or

(iv) Adversely affecting any other powers and responsibilities of the Administrator prescribed by law or any other program, standard, or requirement established in accordance with law.

Approval of a first time NCP or NCP Update is not a determination concerning the acceptability of land uses under Federal, state, or local law. Approval does not by itself constitute an FAA implementing action. A request for Federal action or approval to implement specific noise compatibility measures may be required, and an FAA decision on the request may require an environmental review of the proposed action. Approval does not constitute a commitment by the FAA to financially assist in the implementation of the program nor a determination that all measures covered by the program are eligible for grant-in-aid funding from the FAA. Where Federal funding is sought, requests for project grants must be submitted to the FAA Airports District Office in Orlando, Florida.

The Monroe County Board of County Commissioners submitted to the FAA on October 29, 2013, the Noise Exposure Maps for the Key West International Airport. The Noise Exposure Maps were determined by FAA to be in compliance with applicable requirements on December 19, 2013. Notice of this determination was published in the Federal Register on December 27, 2013.

On September 15, 2014, the Monroe County Board of County Commissioners submitted to the FAA the descriptions of the Sponsor's proposed noise compatibility measures and other documentation produced during the Noise Compatibility Program Update study conducted from November, 2011 through February 11, 2015.

The Key West International Airport study contains a proposed Noise Compatibility Program Update comprised of actions designed for phased implementation by airport management and adjacent jurisdictions from September 15, 2014 beyond the year 2015. It was requested that FAA evaluate and approve this material as a Noise Compatibility Program Update as described in Section 47504 of the Act. The FAA began its review of the Noise Compatibility Program Update on September 15, 2014, and was required by provisions of the Act to approve or disapprove the program within 180 days (other than the use of new or modified flight procedures for noise control). Failure to approve or disapprove such program within the 180-day period shall be deemed to be an approval of such program.

The submitted program Update contained twenty-five (25) proposed actions for noise mitigation both on and off the Airport. The FAA completed its review and determined that the procedural and substantive requirements of the Act and 14 CFR part 150 have been satisfied. The overall program, therefore, was approved by the FAA effective March 11, 2015.

Outright approval was granted for thirteen (13) the specific program elements. No FAA action was requested or given for twelve (12) of the twenty-five (25) specific program elements.

These elements are the sole responsibility of the Monroe County Board of County Commissioners to both implement and fund.

These determinations are set forth in detail in a Record of Approval signed by the FAA on March 11, 2015. When a measure is disapproved by the FAA, airport Sponsors are encouraged to work with their local communities, governments and the FAA, outside of the formal Part 150 process as necessary, to implement initiatives that provide noise benefits for the surrounding community.

The Record of Approval, as well as other evaluation materials and the documents comprising the submittal, are available for review at the FAA office listed above and at the administrative office of the Key West International Airport. The Record of Approval will also be available on-line at: http://www.faa.gov/airports_airtraffic/airports/environmental/airport_noise/part_150/states/.

Issued in Orlando, Florida on March 19, 2015.
Bart Vernace,
P.E., Manager, Orlando Airports District Office.

[FR Doc. 2015-07732 Filed 4-3-15; 8:45 am]

BILLING CODE 4910-13-P